DEPARTMENT OF LABOR

Occupational Safety and Health Administration

[Docket No. NRTL1-88]

MET Laboratories, Inc., Expansion of Recognition

AGENCY: Occupational Safety and Health Administration (OSHA), Labor.

ACTION: Notice.

SUMMARY: This notice announces the Agency's final decision on the application of MET Laboratories, Inc. (MET) for expansion of its recognition as a Nationally Recognized Testing Laboratory (NRTL) under 29 CFR 1910.7.

EFFECTIVE DATE: This recognition becomes effective on August 26, 2003 and, unless modified in accordance with 29 CFR 1910.7, continues in effect while MET remains recognized by OSHA as an NRTL.

FOR FURTHER INFORMATION CONTACT: Roy Resnick, Office of Technical Programs and Coordination Activities, NRTL Program, Occupational Safety and Health Administration, U.S. Department of Labor, 200 Constitution Avenue NW., Room N3653, Washington, DC 20210, or phone (202) 693-2110.

SUPPLEMENTARY INFORMATION:

Notice of Final Decision

The Occupational Safety and Health Administration (OSHA) hereby gives notice of the expansion of recognition of MET Laboratories, Inc., (MET) as a Nationally Recognized Testing Laboratory (NRTL). MET's expansion covers the use of additional test standards. OSHA's current scope of recognition for MET may be found in the following informational web page: http://www.osha-slc.gov/dts/otpca/nrtl/met.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope.

MET submitted a request, dated April 30, 2002 (see Exhibit 32), to expand its recognition as an NRTL to use 20 additional test standards. The NRTL Program staff determined that all the standards were “appropriate test standards,” within the meaning of 29 CFR 1910.7(c). The staff makes similar determinations in processing expansion requests from any NRTL. OSHA NRTL Program staff performed an on-site review of the NRTL in September 2002 and recommended the expansion in a memo dated October 22, 2002 (see Exhibit 33). Through no fault of MET, the application was delayed in processing. MET then submitted an amendment on May 15, 2003 (see Exhibit 32-1), to add one additional test standard to its expansion request. This standard requires the same capabilities as a few of the standards included in the original request and therefore falls within the recommendation of the assessor. As a result, a total of 21 test standards are approved for the expansion.

OSHA published the notice of its preliminary findings on the expansion request in the Federal Register on June 20, 2003 (68 FR 37028). The notice requested submission of any public comments by July 7, 2003. OSHA did not receive any comments pertaining to the application.

The previous notices published by OSHA for MET's recognition covered a renewal and expansion of recognition, which became effective on May 23, 2002 (67 CFR 36260).

You may obtain or review copies of all public documents pertaining to the MET application by contacting the Docket Office, Occupational Safety and Health Administration, U.S. Department of Labor, 200 Constitution Avenue, NW., Room N2625, Washington, DC 20210. You should refer to Docket No. NRTL1-88, the permanent record of public information on MET's recognition.

The current address of the MET testing facility that OSHA recognizes for MET is: MET Laboratories, Inc., 914 West Patapsco Avenue, Baltimore, Maryland 21230.

Final Decision and Order

The NRTL Program staff has examined the application, the assessor's recommendation, and other pertinent information. Based upon this examination and the recommendation, OSHA finds that MET Laboratories, Inc., has met the requirements of 29 CFR 1910.7 for expansion of its recognition to include the additional test standards subject to the limitation and conditions listed below. Pursuant to the authority in 29 CFR 1910.7, OSHA hereby expands the recognition of MET, subject to this limitation and these conditions.

Limitation

OSHA limits the expansion to testing and certification of products for demonstration of conformance to the following 21 test standards, and OSHA has determined the standards are appropriate within the meaning of 29 CFR 1910.7(c).

UL48 Electric Signs

UL183 Manufactured Wiring Systems

UL325 Door, Drapery, Gate, Louver and Window Operator and Systems

UL355 Cord Reels

UL427 Refrigerating Units

UL508C Power Conversion Equipment

UL541 Refrigerated Vending Machines

UL756 Coin and Currency Changers and Actuaters

UL778 Motor-Operated Water Pumps

UL916 Energy Management Equipment

UL961 Electric Hobby and Sports Equipment

UL983 Surveillance Cameras Units

UL1419 Professional Video and Audio Equipment

UL1433 Control Centers for Changing Message Type Electric Signs

UL1564 Industrial Battery Chargers

UL1574 Track Lighting Systems

UL1740 Industrial Robots and Robotic Equipment

UL1838 Low Voltage Landscape Lighting Systems

UL2044 Commercial Closed Circuit Television Equipment

UL2161 Neon Transformers and Power Supplies

UL3044 Surveillance Closed Circuit Television Equipment

Many of the test standards listed above are approved as American National Standards by the American National Standards Institute (ANSI). However, for convenience in compiling the list, we show the designation of the standards developing organization (e.g., UL 541) for the standard, as opposed to the ANSI designation (e.g., ANSI/UL 541). Under our procedures, an NRTL recognized for an ANSI-approved test standard may use either the latest proprietary version of the test standard or the latest ANSI version of that standard, regardless of which version appears in the list of test standards found on OSHA's informational web page for the NRTL. Contact “NSSN” (http://www.nssn.org), an organization partially sponsored by ANSI, to find out whether or not a standard is currently ANSI-approved.

OSHA's recognition of MET, or any NRTL, for a particular test standard is limited to equipment or materials (i.e., products) for which OSHA standards require third party testing and certification before use in the workplace. Consequently, an NRTL's scope of recognition excludes any product(s) that falls within the scope of a test standard, but for which OSHA standards do not require NRTL testing and certification.

Conditions

MET Laboratories, Inc. must also abide by the following conditions of the recognition, in addition to those already required by 29 CFR 1910.7:

MET must have specific written testing procedures in place before testing products covered by any test standard for which it is recognized and must use these procedures in testing and certifying those products;

OSHA must be allowed access to MET's facility and records for purposes of ascertaining continuing compliance with the terms of its recognition and to investigate as OSHA deems necessary;

If MET has reason to doubt the efficacy of any test standard it is using under this program, it must promptly inform the organization that developed the test standard of this fact and provide that organization with appropriate relevant information upon which its concerns are based;

MET must not engage in or permit others to engage in any misrepresentation of the scope or conditions of its recognition. As part of this condition, MET agrees that it will allow no representation that it is either a recognized or an accredited Nationally Recognized Testing Laboratory (NRTL) without clearly indicating the specific equipment or material to which this recognition is tied, or that its recognition is limited to certain products;

MET must inform OSHA as soon as possible, in writing, of any change of ownership, facilities, or key personnel, and of any major changes in its operations as an NRTL, including details;

MET will meet all the terms of its recognition and will always comply with all OSHA policies pertaining to this recognition; and

MET will continue to meet the requirements for recognition in all areas where it has been recognized.

Signed at Washington, DC, this 15th day of August, 2003.
John L. Henshaw,
Assistant Secretary.

[FR Doc. 03-21762 Filed 8-25-03; 8:45 am]

BILLING CODE 4510-26-P